NUCLEAR REGULATORY COMMISSION

[NRC-2011-0135]

Final Interim Staff Guidance Augmenting NUREG-1537, “Guidelines for Preparing and Reviewing Applications for the Licensing of Non-Power Reactors,” Parts 1 and 2, for Licensing Radioisotope Production Facilities and Aqueous Homogeneous Reactors

AGENCY: Nuclear Regulatory Commission.

ACTION: Notice of availability.

SUMMARY: The U.S. Nuclear Regulatory Commission (NRC or the Commission) is issuing Final Interim Staff Guidance (ISG), that augments NUREG-1537, Part 1, “Guidelines for Preparing and Reviewing Applications for the Licensing of Non-Power Reactors: Format and Content,” and NUREG-1537, Part 2, “Guidelines for Preparing and Reviewing Applications for the Licensing of Non-Power Reactors: Standard Review Plan and Acceptance Criteria.” Parts 1 and 2 of the ISG correspond to the parts of NUREG-1537, and can be found in the NRC's Agencywide Documents Access and Management System (ADAMS) at Accession Numbers ML12156A069 and ML12156A075, respectively. The ISG provides guidance for applicants and the NRC staff related to licensing a heterogeneous or aqueous homogeneous non-power reactor as a utilization facility pursuant to Title 10 of the Code of Federal Regulations (10 CFR) Part 50, “Domestic Licensing of Production and Utilization Facilities.” The ISG also provides guidance related to licensing a production facility for the separation of byproduct material from special nuclear material pursuant to 10 CFR Part 50. An applicant should use the guidance in Part 1 of the ISG when preparing a construction permit or operating license application. The NRC staff will use Part 2 of the ISG to review such an application.

Disposition: On June 20, 2011 (76 FR 35922), the NRC published for public comment the draft ISG, “Staff Guidance Regarding the Environmental Report for Applications to Construct and/or Operate Medical Isotope Production Facilities” (ADAMS Accession No. ML11116A166). The NRC received 41 comments on the draft ISG, ADAMS Accession Nos. ML11216A140, ML11220A263, and ML11217A018. On October 13, 2011 (76 FR 63668), the NRC published for public comment Chapters 1-6 of the draft ISG, that augments NUREG-1537, Part 1, “Guidelines for Preparing and Reviewing Applications for the Licensing of Non-Power Reactors: Format and Content” (ADAMS Accession No. ML111160058), and NUREG-1537, Part 2, “Guidelines for Preparing and Reviewing Applications for the Licensing of Non-Power Reactors: Standard Review Plan and Acceptance Criteria” (ADAMS Accession No. ML111810010). On April 10, 2012 (77 FR 21592), the NRC published for public comment Chapters 7-18 of Part 1 of the draft ISG, ADAMS Accession No. ML111570224, and Chapters 7-18 of Part 2 of the draft ISG, ADAMS Accession No. ML111160065. The NRC received 75 comments on the draft ISG, ADAMS Accession Nos. ML11325A120, ML11325A121, ML11325A122, ML12136A120, and ML12135A181. The details of the NRC's disposition of the comments are available at ADAMS Accession No. ML12156A061. The NRC staff incorporated the comments in the final ISG, as appropriate.

Congressional Review Act: In accordance with the Congressional Review Act, the NRC has determined that this action is not a major rule and has verified this determination with the Office of Information and Regulatory Affairs of the Office of Management and Budget.

ADDRESSES: The NRC maintains ADAMS, which provides text and image files of the NRC's public documents. Publicly available documents created or received at the NRC are available online in the NRC Library at http://www.nrc.gov/reading-rm/adams.html. Persons who do not have access to ADAMS or who encounter problems in accessing the documents located in ADAMS should contact the NRC's Public Document Room reference staff at 1-800-397-4209, 301-415-4737, or by email at pdr.resource@nrc.gov.

FOR FURTHER INFORMATION CONTACT: Mr. Marcus Voth, Project Manager, Research and Test Reactor Licensing Branch, Division of Policy and Rulemaking, Office of Nuclear Reactor Regulation, U.S. Nuclear Regulatory Commission, Washington, DC, 20555-0001; telephone at 301-415-1210 or email at Marcus.Voth@nrc.gov.

SUPPLEMENTARY INFORMATION: The NRC posts its issued staff guidance on the NRC external Web page (http://www.nrc.gov/reading-rm/doc-collections/isg/).

Dated at Rockville, Maryland, this 17 day of October 2012.
For the Nuclear Regulatory Commission,
Linh N. Tran,
Acting Chief, Research and Test Reactor Licensing Branch, Division of Policy and Rulemaking, Office of Nuclear Reactor Regulation.

[FR Doc. 2012-26644 Filed 10-29-12; 8:45 am]

BILLING CODE 7590-01-P